ENVIRONMENTAL PROTECTION AGENCY

[FRL-6734-2]

Notice of Availability for Draft Guidance on the Use of Emissions Reductions From Motor Vehicles Operated on Low-Sulfur Gasoline as New Source Review (NSR) Offsets for Tier 2/Gasoline Sulfur Refinery Projects in Nonattainment Areas

AGENCY: Environmental Protection Agency (EPA).

ACTION: Notice of availability.

SUMMARY: The EPA is making available for public review and comment a preliminary draft of its pending guidance on the use of emissions reductions resulting from motor vehicles operated on low sulfur gasoline as NSR offsets for Tier 2/Gasoline Sulfur Refinery Projects in nonattainment areas.

On February 10, 2000, EPA issued new emissions standards (“Tier 2 standards”) for all passenger vehicles, including sport utility vehicles, minivans, vans and pick-up trucks. To ensure the effectiveness of low emissions control technologies in these vehicles, this rule also sets new standards to significantly reduce the sulfur content in gasoline. In order to meet these sulfur-in-gasoline requirements, many refiners will have to make modifications to their existing facilities, which could be subject to the major permitting requirements under parts C and D of the Clean Air Act. For a refinery located in an area designated nonattainment, the acquisition of emissions offsets is one of the prerequisites for receiving the construction permit authorizing the major modification. To provide greater certainty and to expedite the NSR permitting process for refinery projects undertaken in nonattainment areas to comply with the new gasoline sulfur requirements, EPA intends to provide guidance to explain how States can use some of the motor vehicle emissions reductions resulting from use of low sulfur gasoline as NSR offsets.

A draft of EPA's guidance is available for public review and comment. The EPA does not intend to respond to individual comments, but rather to consider the comments from the public in the preparation of the final guidance.

DATES: The comment period on the draft guidance will close on August 11, 2000.

ADDRESSES: Written comments should be sent to Pamela J. Smith, Information Transfer and Program Integration Division (MD-12), Office of Air Quality Planning and Standards, U.S. EPA, Research Triangle Park, North Carolina 27711, telephone 919-541-0641, telefax 919-541-5509 or E-mail smith.pam@epa.gov.

FOR FURTHER INFORMATION CONTACT: Dan deRoeck, Information Transfer and Program Integration Division (MD-12), Office of Air Quality Planning and Standards, U.S. EPA, Research Triangle Park, North Carolina 27711, telephone 919-541-5593, telefax 919-541-5509 or E-mail deroeck.dan@epa.gov.

SUPPLEMENTARY INFORMATION: A copy of the draft guidance document may be obtained by calling or E-mailing Pamela J. Smith. The draft guidance may also be downloaded from the NSR Web Site http://www.epa.gov/ttn/nsr under the topic “What's New on NSR.”

Dated: July 5, 2000.
John S. Seitz,
Director, Office of Air Quality Planning and Standards.

[FR Doc. 00-17615 Filed 7-11-00; 8:45 am]

BILLING CODE 6560-50-P